DEPARTMENT OF LABOR

Employment and Training Administration

[TA-W-65,457]

American Standard Brands, Crane Plastic, Mansfield, OH; Notice of Termination of Investigation

Pursuant to Section 221 of the Trade Act of 1974, as amended, an investigation was initiated on March 3, 2009 in response to a petition filed on behalf of workers of American Standard Brands, Crane Plastic, Mansfield, Ohio.

The petitioners have requested that the petition be withdrawn. Conse­quently, the investigation has been terminated.

Signed at Washington, DC, this 31st day of March 2009.
Elliott S. Kushner,
Certifying Officer, Division of Trade Adjustment Assistance.

[FR Doc. E9-10225 Filed 5-4-09; 8:45 am]

BILLING CODE 4510-FN-P